DEPARTMENT OF COMMERCE

National Oceanic and Atmospheric Administration

50 CFR Part 300

[Docket No. 250506-0081]

RIN 0648-BN28

International Fisheries; Pacific Tuna Fisheries; Fishing Restrictions for Tropical Tuna in the Eastern Pacific Ocean for 2025 and Beyond

AGENCY: National Marine Fisheries Service (NMFS), National Oceanic and Atmospheric Administration (NOAA), Commerce.

ACTION: Final rule.

SUMMARY: NMFS is issuing regulations under the Tuna Conventions Act (TCA) of 1950, as amended, to implement Resolution C-24-01 (Conservation Measures For Tropical Tunas In The Eastern Pacific Ocean During 2025-2026) adopted at the 102nd Meeting of the Inter-American Tropical Tuna Commission (IATTC) in September 2024. This final rule maintains and extends management measures for fishing vessels targeting tropical tuna (i.e., bigeye tuna (Thunnus obesus), yellowfin tuna (Thunnus albacares), and skipjack tuna (Katsuwonus pelamis)) in the eastern Pacific Ocean (EPO). The fishing restrictions will apply to large purse seine vessels of class sizes 4-6 (i.e., vessels with a carrying capacity of 182 metric tons (mt) or greater) and longline vessels greater than 24 meters in overall length that fish for tropical tuna in the EPO. This rule is necessary for the conservation of tropical tuna stocks in the EPO and for the United States to satisfy its obligations as a member of the IATTC.

DATES: This rule is effective June 23, 2025.

ADDRESSES: A plain language summary of this rule is available at https://www.regulations.gov/docket/NOAA-NMFS-2024-0119.

Copies of supporting documents that were prepared for this rule, including the regulatory impact review (RIR) are available via the Federal e-Rulemaking Portal: http://www.regulations.gov, docket NOAA-NMFS-2024-0119, or contact Tyler Lawson, NMFS West Coast Region Portland Office, 1201 NE Lloyd Blvd., Suite 1100, Portland, OR 97205, or tyler.lawson@noaa.gov.

FOR FURTHER INFORMATION CONTACT: Tyler Lawson, NMFS WCR, at (503) 230-5421, tyler.lawson@noaa.gov.

SUPPLEMENTARY INFORMATION:

Background on the IATTC

The United States is a member of the IATTC, which was established under the 1949 Convention for the Establishment of an Inter-American Tropical Tuna Commission (1949 Convention). In 2003, the IATTC updated the 1949 Convention through the adoption of the Convention for the Strengthening of the IATTC Established by the 1949 Convention between the United States of America and the Republic of Costa Rica (Antigua Convention). The Antigua Convention entered into force in 2010. The United States acceded to the Antigua Convention on February 24, 2016. The full text of the Antigua Convention is available at: https://www.iattc.org/PDFFiles2/Antigua_Convention_Jun_2003.pdf.

The IATTC consists of 21 member nations and 5 cooperating non-member nations. The IATTC is responsible for the conservation and management of tuna and tuna-like species in the IATTC Convention Area. The IATTC Convention Area is defined as waters of the EPO within the area bounded by the west coast of the Americas and by 50° N latitude, 150° W longitude, and 50° S latitude. The IATTC maintains a scientific research and fishery monitoring program and regularly assesses the status of tuna, sharks, and billfish stocks in the IATTC Convention Area to determine appropriate catch limits and other measures deemed necessary to promote sustainable fisheries and prevent the overexploitation of these stocks.

International Obligations of the United States Under the Antigua Convention

As a Party to the Antigua Convention and a member of the IATTC, the United States is legally bound to implement decisions of the IATTC under the TCA of 1950, as amended, 16 U.S.C. 951 et seq. (Pub. L. 114-81). The TCA directs the Secretary of Commerce, in consultation with the Secretary of State and, with respect to enforcement measures, the U.S. Coast Guard, to promulgate such regulations as may be necessary to carry out the United States' obligations under the Antigua Convention, including recommendations and decisions adopted by the IATTC. The authority of the Secretary of Commerce to promulgate such regulations has been delegated to NMFS.

IATTC Resolution on Tropical Tuna Conservation

The 102nd Meeting of the IATTC was held in Panama City, Panama, in September 2024. At this meeting, the IATTC adopted Resolution C-24-01 (Conservation Measures for Tropical Tunas In The Eastern Pacific Ocean During 2025-2026). Many of the provisions in Resolution C-24-01 are identical in content to those contained in the previous tropical tuna Resolution (C-21-04; Conservation Measures for Tropical Tuna in the Eastern Pacific Ocean During 2022-2024), which NMFS implemented in a July 8, 2022 rulemaking (87 FR 40731), and are in effect until they are amended or replaced. Resolution C-24-01 continues to include provisions for a 72-day EPO fishing closure period for purse seine vessels, exemptions from that closure period due to force majeure, catch limits of bigeye tuna caught in the EPO for longline vessels greater than 24 m in overall length, catch limit transfer requirements for bigeye tuna, a requirement that all tropical tuna be retained and landed (with some exceptions), and restrictions on the use and design of fish aggregating devices (FADs).

In addition to continuing the existing measures, Resolution C-24-01 requires the IATTC to reexamine the Resolution at the annual IATTC meeting in 2025 or 2026 based on a yellowfin tuna benchmark assessment or, if a benchmark assessment is not available, the current stock assessment, as long as it is deemed reliable by IATTC scientific staff at that time. Based on that review, if necessary, the Resolution provides that the IATTC will take actions to reduce fishing pressure on yellowfin tuna to a level that allows for sustainable fishing. Alternatively, if the benchmark assessment or stock assessment shows that the yellowfin tuna stock is not overfished nor subject to overfishing, the IATTC will consider options for new measures that reduce the number of days of closure or the elimination of the “corralito” closure area, which NMFS currently has implemented in 50 CFR 300.25(e)(1) and 300.25(e)(6). If action is taken by the IATTC in 2025 and a new Resolution is adopted, NMFS will consider additional action as appropriate.

The implementation of this Resolution by all IATTC members is intended to prevent overfishing of tropical tuna stocks in the EPO. Based on 2024 IATTC benchmark stock assessments and applying the stock status criteria NMFS identified in the Highly Migratory Species Fisheries Management Plan (HMS FMP), the bigeye and skipjack tuna stocks in the EPO are not subject to overfishing and are not overfished. Based on the most recent IATTC benchmark assessment (2020) for yellowfin tuna in the EPO, NMFS determined the stock is neither overfished nor subject to overfishing. Efforts to complete a new benchmark assessment for yellowfin tuna are underway, and results are anticipated within the next 2 years.

For the 2024 meeting of the IATTC, the IATTC scientific staff recommended that conservation measures from tropical tuna Resolution C-21-04 be extended to prevent overfishing of these stocks. Those measures are already codified and will continue under this rule, as discussed in the following section.

NMFS published a proposed rule on December 5, 2024 (89 FR 96631), for public review and comment. The comment period closed on January 6, 2025. The preamble to the proposed rule contains additional background information that is not repeated here.

Final Regulations

This rule is implemented under the TCA (16 U.S.C. 951 et seq.) and includes minor changes to 50 CFR part 300, subpart C. The rule will apply to U.S. commercial fishing vessels using purse seine and longline gear to catch tropical tuna in the IATTC Convention Area. As noted in the preamble to the proposed rule, most of the measures in Resolution C-24-01 do not need to be implemented through this rule because the Resolution continues existing measures that are already codified and do not expire (see 87 FR 40731, July 8, 2022). A full list of those codified measures is included in the preamble of the proposed rule and is not repeated here.

This rule extends the applicability of the system of additional closure days for class size 4-6 purse seine vessels that exceed specified annual catch levels for bigeye tuna that was in place for calendar years 2023 and 2024 (50 CFR 300.25(e)(2)). Under this rule, those regulations remain in effect for 2025 and future calendar years. The catch levels continue to begin at 1,200 mt of bigeye tuna with 10 additional closure days and increase incrementally by 300 mt and 3 additional closure days beyond that level. U.S. purse seine vessels that exceed a certain annual catch level of bigeye tuna are required to increase the number of closure days they observe in the following year, as specified in table 1.

Table 1—Bigeye Tuna Catch Levels and Corresponding Additional Closure Days
Catch level (mt) exceeded | Additional closure days observed
1,200 | 10
1,500 | 13
1,800 | 16
2,100 | 19
2,400 | 22

As was true for 2023 and 2024, the additional days of closure must be added to one of the two closure periods indicated in 50 CFR 300.25(e)(1), which requires purse seine vessels to observe one of two specified 72-day closure periods. For vessels observing the first closure period, the additional days must be added at the beginning of the closure period. For vessels observing the second closure period, the additional days must be added to the end of the closure period.

This rule also makes minor revisions to 50 CFR 300.28(c), to clarify the active FAD limits applicable for 2025 and future calendar years. Specifically, this rule updates Table 1 to paragraph (c), which contains the active FAD limits for purse seine vessels by well volume, by removing the expired limits (i.e., limits for calendar years 2022 and 2023) and leaving only those limits that apply for 2025 and future calendar years (i.e., limits that were specified in the previous table as applying “For 2024 calendar year and beyond”). The current limits are shown in table 2.

Table 2—Active FAD Limits for Purse Seine Vessels
Well volume (cubic meters (m³)) | Active FAD limit
1,200 or more | 340
426-1,199 | 210
213-425 | 85
0-212 | 50

Although Resolution C-24-01 is in effect through 2026, NMFS does not intend for these regulations to expire concurrently with the Resolution. Instead, because the IATTC will likely continue to adopt similar conservation and management measures upon expiration of this resolution, and to avoid a lapse in the management of the fishery that may occur between expiration of the regulations and implementation of new measures adopted by the IATTC, these regulations will remain in effect unless and until they are amended or replaced.

The TCA gives NMFS the authority to promulgate such regulations as may be necessary to carry out the United States' international obligations under the Convention and this chapter, including recommendations and decisions adopted by the IATTC. In past years, NMFS has implemented IATTC resolutions for specific calendar years, and this approach has at times led to lapses in management in the affected fisheries in subsequent years. Given the time-consuming nature of the U.S. domestic rulemaking process, combined with the frequent delayed adoption of IATTC resolutions, implementing domestic measures that do not expire unless and until new measures are in place is necessary to carry out the United States' international obligations under the Antigua Convention and the TCA because it will ensure there is no lapse in management of the tropical tuna fishery in the EPO.

Thus, regulations will remain in effect until they are amended or replaced. NMFS intends to publish proposed and final rules to implement new resolutions adopted by the IATTC as expeditiously as possible; however, this approach will allow existing regulations to remain in force and prevent any lapse in regulatory coverage caused by expirations.

Because the IATTC adopted Resolution C-24-01 as a 2-year conservation and management measure (2025-2026), the supporting analyses for this rule (discussed later in the Classification section) cover a 2-year time period, with the understanding that NMFS will consider whether these analyses will need to be supplemented should the measures remain in effect for more than 2 years.

Public Comments and Responses

NMFS received one comment during the 30-day comment period on the proposed rule, which closed on January 6, 2025. The comment was from a member of the general public and was supportive of the proposed regulation change, as they felt it aligns with long term benefits for the marine ecosystem and promotes sustainable fisheries management. However, they did express two concerns with the proposed rule text which are addressed below.

Issue #1: The commenter noted “in order for this new regulation to truly work there needs to be effective enforcement. If there is not adequate monitoring and enforcement, the whole regulation may be undermined as the catch limits and habitat protection may be ignored.”

NMFS Response: NMFS recognizes the importance of monitoring and enforcement for effective fisheries management. The IATTC informs NMFS if a possible instance of non-compliance arises. If warranted, NMFS works with the Office of Law Enforcement to investigate and take appropriate action.

Issue #2: The commenter noted “concerns about . . . the economic impacts on smaller fishing communities. Local small-scale fisheries often rely on certain species, so tightening the catch limits negatively affects these smaller fisheries.”

NMFS Response: NMFS notes that catch limits are not being tightened in this rule and that the bigeye tuna catch limits for purse seine vessels which have been in place for several years are being extended until modified or replaced. The economic impacts to small vs large entities is discussed in the classification section and NMFS concluded that the action is not expected to have a significant adverse economic impact on the profitability of a substantial number of small entities or a disproportionate economic effect on small entities relative to large entities. In response to this comment, NMFS has revised the RIR and the Regulatory Flexibility Act discussion in the Classification section to further support that the action is not expected to have a significant adverse economic impact.

Changes From Proposed Rule

After consideration of public comments on the proposed rule, NMFS does not intend to make any substantive changes in the final rule.

NMFS is making one minor change to the final regulatory text for 50 CFR 300.25(e)(2). Specifically, to clarify that all measures related to the system of additional closure days in place for 2023 and 2024 are being extended and continue to apply in 2025 and beyond, NMFS is revising the final regulatory text to include both subparagraphs of § 300.25(e)(2), instead of just subparagraph (e)(2)(i). The text of subparagraph (e)(2)(ii) is unchanged from the corresponding subparagraph put in place by the previous rule (see 87 FR 40731, July 8, 2022).

Classification

The NMFS Assistant Administrator has determined that this rule is consistent with the TCA and other applicable laws, subject to further consideration after public comment.

Executive Order 12866

This rule is not an Executive Order 14192 regulatory action because this action is not significant under Executive Order 12866.

Paperwork Reduction Act

This final rule does not contain changes to the collection of information requirement for the purposes of the Paperwork Reduction Act of 1995. The existing collection of information requirements would continue to apply under the following Office of Management and Business (OMB) Control Numbers: 0648-0214 (Pacific Islands Region Logbook Family of Forms) and 0648-0148 (West Coast Region Pacific Tuna Fisheries Logbook, Fish Aggregating Device Form, and Observer Safety Reporting).

Notwithstanding any other provision of the law, no person is required to respond to, and no person shall be subject to penalty for failure to comply with, a collection of information subject to the requirements of the PRA, unless that collection of information displays a currently valid OMB control number. All currently approved NOAA collections of information may be viewed at: https://www.reginfo.gov/public/do/PRAMain

Regulatory Flexibility Act

Pursuant to the Regulatory Flexibility Act, 5 U.S.C. 605(b), the Chief Counsel for Regulation of the Department of Commerce certified to the Chief Counsel for Advocacy of the Small Business Administration that this rule, if adopted, will not have a significant economic impact on a substantial number of small entities. The rationale for the certification is provided in the following paragraphs.

For Regulatory Flexibility Act purposes only, NMFS has established a small business size standard of $11 million in annual gross receipts for businesses, including their affiliates, whose primary industry is commercial fishing (see 50 CFR 200.2). This standard applies to all businesses classified under North American Industry Classification System (NAICS) code 11411 for commercial fishing, including all businesses classified as commercial finfish fishing (NAICS 114111), commercial shellfish fishing (NAICS 114112), and other commercial marine fishing (NAICS 114119) businesses.

NMFS prepared the following analyses for this regulatory action in light of this size standard. All of the entities directly regulated by this regulatory action are commercial finfish fishing businesses. Under this size standard, some U.S. purse seine vessels affected by this action are considered large, and some are small businesses. The longline vessels this action applies to are considered to be small businesses based on above standards.

U.S. Purse Seine Vessels Fishing in the IATTC Convention Area: There are two components to the U.S. tuna purse seine fishery in the EPO: (1) large purse seine vessels (class size 6; greater than 363 mt carrying capacity) that typically have been based in the western and central Pacific Ocean (WCPO), and (2) coastal purse seine vessels with smaller fish hold volumes (class sizes 2-3; between 46-181 mt carrying capacity) that are based on the U.S. West Coast. Although Resolution C-24-01 and the implementing regulations include restrictions for class size 4-5 (182-363 mt carrying capacity) purse seine vessels, there are currently no U.S. vessels of class sizes 4-5 registered to fish in the IATTC Convention Area, nor have there been in the past 10 years. Therefore, to the extent the regulations specify application to class size 4-5 purse seine vessels, they are not expected to have any impact on U.S. vessel owners or operators.

As of September 2024, the United States has 14 active large U.S. purse seine vessels on the IATTC Regional Vessel Register authorized to fish in the EPO. Twelve of these vessels also have Western and Central Pacific Fisheries Commission (WCPFC) Area Endorsements. WCPFC Area Endorsements are NMFS-issued authorizations required for a vessel to fish commercially for HMS on the high seas in the WCPFC Convention Area. NMFS used cannery data from the IATTC and Regional Purse Seine Logbook (RPL) data from Pacific Islands Fisheries Science Center to estimate fish landings in both the EPO and WCPO for the vessels that fished in both Convention Areas within a year.

Because neither gross receipts nor ex-vessel price information specific to individual fishing vessels are available to NMFS, NMFS applied regional price data—as approximations of ex-vessel prices—to annual catches of individual vessels obtained from RPLs and IATTC observer data, to estimate the vessels' annual receipts.

Using this approach, NMFS estimates that among the affected vessels, the range in average annual per-vessel receipts in 2021-2023 was $500,000 to $13.4 million with an average of approximately $10 million. Nine of the active purse seine vessels had estimated average annual receipts of less than $11 million, and thus are considered to be small entities. The remaining five are considered large businesses.

U.S. Longline Vessels that Fish in the IATTC Convention Area: As of September 2024, the IATTC Regional Vessel Register lists 35 large-scale longline vessels (i.e., greater than 24 m in overall length) that have the option to fish in the IATTC Convention Area. The majority of these longline vessels have Hawaii Longline Limited Access Permits (issued under 50 CFR 665.13). Under the Hawaii longline limited access program, no more than 164 permits may be issued. The Hawaii longline fisheries include a tuna-targeting (including bigeye tuna) deep-set fishery and swordfish-targeting shallow-set fishery. Additionally, there are U.S. longline vessels based on the U.S. West Coast, some of which operate under the Pacific HMS permit and high seas permits. U.S. West Coast-based longline vessels operating under the Pacific HMS permit fish primarily in the EPO and are currently restricted to fishing with deep-set longline gear outside of the U.S. West Coast exclusive economic zone.

Between 2019 and 2023, longline vessels that fished in the IATTC Convention Area had average ex-vessel revenues ranging from $197,301 to $255,985 for total landings, including those in the EPO and WCPO. The maximum ex-vessel revenue of any longline vessel that fished in the IATTC Convention Area was well below the $11 million threshold for finfish harvesting businesses. Therefore, all of the longline vessels impacted by the rule will be considered small business entities.

Economic Impacts: The action is not expected to have a significant adverse economic impact on the profitability of a substantial number of small entities or a disproportionate economic effect on small entities relative to large entities. The entities impacted by the action related to purse seine vessels are considered to include both large and small businesses, and the entities impacted by the action related to longline vessels are considered to be small businesses. All of the measures in the Resolution maintain purse seine and longline measures that have been in place in U.S. regulations for years and have become routine for the purse seine and longline fleets. As described above, the IATTC extended the measures to prevent overfishing.

As discussed previously, this rule extends the applicability of the system of additional closure days for class size 4-6 purse seine vessels that exceed specified annual catch levels for bigeye tuna that was in place for calendar years 2023 and 2024. This action therefore will continue to add 10 closure days for purse seine vessels that catch more than 1,200 mt of bigeye tuna, and will continue to add 3 additional closure days for every additional 300 mt caught beyond the 1,200 mt. In reviewing catch levels for U.S. purse seine vessels from 2017-2020, only one U.S. vessel caught more than 1,200 mt in a single year. Since the 2022 rulemaking was put in place, no U.S. vessels have caught more than 1,200 mt in a single year. Thus, it is not expected that many, if any, U.S. vessels will be required to adhere to additional closure days. For vessels that may need to observe additional closure days, the majority of vessels have the option to fish in the WCPO, pending closures in the WCPFC Convention Area, noting that tropical tuna stocks in the WCPO are considered distinct from EPO stocks.

In addition to extending the applicability of the system of additional closure days, the 2024 tropical tuna Resolution maintains a number of purse seine regulations that have been in place for years, and the purse seine fleet is familiar with these measures. Because the IATTC adopted the previous tropical tuna resolution, C-21-04, as a three-year conservation and management measure (2022-2024), the supporting analyses for that rule covered a three-year time period, with the understanding that those analyses would be supplemented should the measures remain in effect for more than three years. Resolution C-24-01 maintains those measures and those analyses are discussed below.

FAD limits: As previously discussed, this rule makes minor revisions to clarify the active FAD limits applicable for 2025 and future calendar years by updating the table which contains the active FAD limits for purse seine vessels by well volume, by removing the expired limits (i.e., limits for calendar years 2022 and 2023) and leaving only those limits that apply for 2025 and future calendar years (i.e., limits that were specified in the previous table as applying “For 2024 calendar year and beyond”). With respect to limits on active FADs, all large U.S. purse seine vessels currently on the IATTC Regional Vessel Register have a well volume of 1,200 m³ or more. Therefore, the limit of 340 active FADs per large U.S. purse seine vessel will continue to apply in 2025 and beyond. According to 2018-2020 purse seine effort data provided by IATTC scientific staff, the average number of active FADs per U.S. vessel is approximately 90 and the maximum number per vessel is 271. Since the 2022 rulemaking began to gradually decrease active FAD limits to their current limits, U.S. purse seine vessels have continued to operate within the established limits. Thus, these regulations are not expected to reduce the number of active FADs any U.S. purse seine vessel has in the water. As a result, the continuation of these measures is not expected to reduce the profitability of the fishery, and no disproportionate impacts between small and large businesses are expected.

Buoy restrictions: This rule maintains existing restrictions on buoy deactivations and reactivations which have been in place since 2022 and are not expected to substantially change the fishing behavior of the U.S. fleet. In addition, although there were additional reporting requirements for active FADs, deactivations, and reactivations, vessel operators were already expected to be collecting the necessary information from satellite companies as part of current operations, and therefore reporting this additional information is still not expected to impose an additional burden that would reduce profitability.

Reporting requirements: This rule maintains requirements for reporting cannery data to the IATTC and making data available to NMFS upon request, as well as requirements for NMFS to report VMS data to the IATTC beginning in 2023. Cannery data was already being collected by purse seine vessel owners as a part of current operations. Vessel owners did not need to change any reporting requirements for VMS data because those data were already provided to NMFS and NMFS provides it to the IATTC. Therefore, NMFS still does not expect these reporting requirements to reduce the profitability of the fishery or have a disproportionate impact between small and large businesses.

Force majeure: This rule maintains existing regulations that vessels to request an exemption from observing a full 72-day closure period due to the occurrence of a force majeure events. Since 2013, when the force majeure provisions first went into effect, the United States has requested force majeure exemptions seven times. Because U.S. force majeure events are rare and unpredictable, it is difficult to speculate future situations where a U.S. vessel would need to request force majeure. The economic effects from these revisions are generally positive for vessels that are granted an exemption due to force majeure, as the measure provides relief to U.S. purse seine vessels that experience an unforeseen circumstance and would otherwise fish fewer days in a calendar year.

In summary, the action is not expected to substantially change the typical fishing practices of affected vessels. Any impact to the income of U.S. vessels is expected to be minor. Therefore, NMFS has determined that the action is not expected to have a significant economic impact on a substantial number of small entities, or a disproportionate economic impact on the small entities relative to the large entities. Therefore, an Initial Regulatory Flexibility Analysis is not required and none has been prepared.

Executive Order 13175

NMFS has determined that this action will not have a substantial direct effect on one or more Indian Tribes, on the relationship between the Federal Government and Indian Tribes, or on the distribution of power and responsibilities between the Federal Government and Indian Tribes; therefore, consultation with Tribal officials under Executive Order 13175 is not required, and the requirements of sections (5)(b) and (5)(c) of Executive Order 13175 also do not apply. A Tribal summary impact statement under section (5)(b)(2)(B) and section (5)(c)(2)(B) of Executive Order is not required and has not been prepared.

List of Subjects in 50 CFR Part 300

Administrative practice and procedure, Fish, Fisheries, Fishing, Marine resources, Reporting and recordkeeping requirements, Treaties.

Dated: May 19, 2025.
Jonathan Marc Kurland,
Acting Deputy Assistant Administrator for Regulatory Programs, National Marine Fisheries Service.

For the reasons set out in the preamble, NMFS amends 50 CFR part 300, subpart C, as follows:

PART 300—INTERNATIONAL FISHERIES REGULATIONS

1. The authority citation for part 300, subpart C, continues to read as follows:

Authority: 16 U.S.C. 951 et seq.

2. Amend § 300.25 by revising paragraph (e)(2)(i) and (ii) to read as follows:

§ 300.25 Fisheries management.

* * * * *

(e) * * *

(2) * * *

(i) U.S. purse seine vessels that exceed a certain annual catch level of bigeye tuna must increase the number of closure days they observe in the following year, as specified in table 1 to this paragraph (e)(2).

(ii) The additional days of closure must be added to one of the two closure periods indicated in paragraph (e)(1) of this section. For vessels observing the first closure period, the additional days must be added at the beginning of the closure period. For vessels observing the second closure period, the additional days must be added to the end of the closure period. The HMS Branch will confirm the determination of annual catch levels for U.S. purse vessels based on information provided by the IATTC and notify any U.S. vessel that exceeds a given catch level.

Table 1 to Paragraph (e)(2)
Catch level (mt) exceeded | Additional closure days observed
1,200 | 10
1,500 | 13
1,800 | 16
2,100 | 19
2,400 | 22

* * * * *

3. Amend § 300.28 by revising paragraph (c) to read as follows:

§ 300.28 FAD restrictions.

* * * * *

(c) Restrictions on Active FADs for purse seine vessels. U.S. vessel owners and operators of purse-seine vessels with the following well volume in cubic meters (m³) must not have more than the following number of Active FADs per vessel in the IATTC Convention Area at any one time, as specified in table 1 to this paragraph (c).

Table 1 to Paragraph (c)
Well volume (m³) | Active FAD limit
1,200 or more | 340
426-1,199 | 210
213-425 | 85
0-212 | 50

* * * * *

[FR Doc. 2025-09281 Filed 5-22-25; 8:45 am]

BILLING CODE 3510-22-P